Proclamation 10286 of October 8, 2021

Grand Staircase-Escalante National Monument

By the President of the United States of America

A Proclamation

President Clinton's designation of the Grand Staircase-Escalante National Monument in Proclamation 6920 of September 18, 1996, was a watershed moment for conservation in the United States. Proclamation 6920 represents the first time a President designated a national monument under the Antiquities Act to be managed by the Bureau of Land Management, signaling the dawn of the modern era of Antiquities Act protection and a reawakening of conservation efforts on public lands in the West.

Proclamation 6920 describes the rich mosaic of objects of historic and scientific interest across Grand Staircase-Escalante. Proclamation 6920 details the monument's varied geology, from the cliffs of the Grand Staircase in the west, to the fossil-rich formations in the Kaiparowits Plateau that demonstrate billions of years of geology infused with world-class paleontological sites, to the badlands of the Burning Hills in the center, to the intricate and complex system of canyons in the Escalante region in the east. The proclamation goes on to describe the area's rich human history, spanning from the indigenous people and cultures who made this area home to Anglo-American explorers and early Latter-day Saint pioneers. The proclamation further identifies outstanding biological resources, describing the monument as “in the heart of perhaps the richest floristic region in the Intermountain West,” spanning five life zones and supporting diverse, rare, and endemic populations of plants and a diversity of animals, as well as unusual and diverse soils that support communities of mosses, lichens, and cyanobacteria. In addition, the proclamation describes the vast opportunities for additional scientific research and discovery within the monument. Grand Staircase-Escalante has become the focus of a multi-disciplinary study of its large landscape for the benefit of current and future generations.

After the monument was established, the Congress adjusted the boundaries or ratified the acquisition of additional lands within the monument on three separate occasions, in some cases adding lands, in other cases subtracting lands. When the Congress had completed its fine-tuning, it had increased the monument's reservation by more than 180,000 acres, bringing the total Federal lands within the monument boundaries to approximately 1.87 million acres.

Remarkably, given its size, in the 25 years since its designation, Grand Staircase-Escalante has fulfilled the vision of an outdoor laboratory with great potential for diverse and significant scientific discoveries. During this period, hundreds of scientific studies and projects have been conducted within the monument, including investigating how the monument's geology provides insight into the hydrology of Mars; discovering many previously unknown species of dinosaurs, some of which have become household names; unearthing some of the oldest marsupial fossils ever identified; conducting extensive inventories of invertebrates, including the identification of more than 600 species of bees, some of which likely exist nowhere else on Earth; performing hydrologic research in the Escalante River and Deer Creek; studying and restoring habitat for amphibians, mammals, and bird species, including the reintroduction of bighorn sheep and pronghorn to their native range; completing rangeland science assessments, including a complete Level III soils survey; carrying out widespread archaeological surveys that have documented important sites and rock writings; and implementing social science projects related to visitor experiences and impacts. New scientific discoveries are likely just around the corner; for example, scientists have collected thousands of specimens of invertebrates from the monument that await further study and are expected to yield new species that are endemic to the monument. Scientists have utilized every corner of the monument in their efforts to better understand our environment, our history, our planet's past, and our place in the universe.

On December 4, 2017, President Donald Trump issued Proclamation 9682 to reduce the monument by over 860,000 acres. Proclamation 9682 removes protection from objects of historic and scientific interest across the Grand Staircase-Escalante landscape, including some resources Proclamation 6920 specifically identifies for protection. Multiple parties challenged Proclamation 9682 in Federal court, asserting that it exceeded the President's authority under the Antiquities Act.

Restoring the Grand Staircase-Escalante National Monument to its size and boundaries as they existed prior to December 4, 2017, will ensure that this exceptional and inimitable landscape filled with an unparalleled diversity of resources will be properly protected and will continue to provide the living laboratory that has produced so many dramatic discoveries in the first quarter century of its existence. Given the unique nature of the objects identified across the Grand Staircase-Escalante landscape, the threat of damage and destruction to those objects, and the current inadequate protection they are afforded, a reservation of this size is the smallest area compatible with the proper care and management of the objects of historic and scientific interest named in this proclamation and Proclamation 6920.

The entire Grand Staircase-Escalante landscape—stretching from Skutumpah Terrace and the escarpments of the Grand Staircase in the west, Nipple Bench, Smoky Mountain, the Burning Hills, Grand Bench, the East and West Clark Benches, and Buckskin Mountain in the south, the Hole-in-the-Rock Trail that runs through the Escalante Desert, Upper Escalante Canyons, and Circle Cliffs in the northeast, and Alvey Wash and the Blues in the north—is an object of historic and scientific interest requiring protection under the Antiquities Act. There are innumerable objects of historic or scientific interest within this extraordinary landscape. Some of the objects are also sacred to Tribal Nations, rare, fragile, or vulnerable to vandalism and theft, or are dangerous to visit and, therefore, revealing their specific names and locations could pose a danger to the objects or the public.

High, rugged, and remote, the vast and austere Grand Staircase-Escalante landscape is characterized by bold plateaus and multihued cliffs that run for distances that defy human perspective. It is also home to world-famous slot canyons that are so deep and narrow that sunlight almost never penetrates their ultimate depths, and pools of numbingly cold water remain throughout the hottest months. Despite being the last place in the contiguous United States to be mapped and remaining a remote and primitive landscape to this day, the Grand Staircase-Escalante area has a long and dignified human history. The landscape teems with evidence of the efforts expended by both indigenous people and early Anglo pioneers to carve existences into an arid and unforgiving region. The Grand Staircase-Escalante region retains the frontier character of the American West, providing visitors with an opportunity to experience a remote landscape rich with opportunities for adventure and self-discovery. It is unique and rare in today's world to encounter a place where one can wander and ponder undisturbed, and explore and discover at one's own pace. It also serves as an outdoor laboratory on the frontier of scientific research that continues to regularly reveal important insights into our planet and our past.

The Grand Staircase-Escalante landscape is a geologic treasure of clearly exposed stratigraphy and structures. The sedimentary rock layers are relatively undeformed and unobscured by vegetation, offering a clear view to understanding the Earth's geological development. Owing in large part to the exposure of so many formations, the landscape is one of the world's great paleontological laboratories. From remarkable specimens of petrified wood, to the most continuous record of Late Cretaceous life, to the first evidence that tyrannosaurs hunted in packs, to marble-like iron oxide concretions found in Navajo Sandstone that provide insight into Martian geology, the ongoing discoveries on the Grand Staircase-Escalante landscape continue to make invaluable contributions to our understanding of the planet's past. Despite the abundance of paleontological discoveries that have occurred on the landscape, and the wealth of information they have provided about the entire Mesozoic Era, it is likely that we have thus far uncovered only a fragment of Grand Staircase-Escalante's paleontological story.

Rich in human history, the Grand Staircase-Escalante landscape abounds in evidence of habitation by the Ancestral Pueblo and Fremont cultures. Tribal Nations, including the Hopi Tribe, the Kaibab Band of Paiute Indians, the Navajo Nation, the Paiute Indian Tribe of Utah, the San Juan Southern Paiute Tribe of Arizona, the Pueblo of Acoma, the Pueblo of San Felipe, the Pueblo of Tesuque, and the Pueblo of Zuni, have ancestral, cultural, or historical ties to this area and continue to use the area to this day. The Southern Paiute people in particular hold these lands sacred as they make up a portion of their traditional homeland. The landscape has also played an important role in European settlement of the American West. In 1776, the Dominguez-Escalante expedition may have passed through the region, and subsequent travelers on the Armijo Route of the Old Spanish Trail journeyed up the Paria River, through Cottonwood Canyon and the Cockscomb, and to the west through Kimball Valley and along parts of Telegraph Flat below the Vermillion Cliffs. The John Wesley Powell expedition created some of the earliest maps of the area in 1872, and later that decade, Latter-day Saint pioneers literally etched portions of the Hole-in-the-Rock Trail across the desert in their efforts to settle southern Utah.

The landscape is also an outstanding biological resource. As a result of the blending of warm and cold desert flora and the high number of endemic species, the Grand Staircase-Escalante landscape, which contains 50 percent of Utah's rare flora and 125 species of plants that occur only in Utah or on the Colorado Plateau, is one of the most floristically rich regions in the Intermountain West. An abundance of unique, isolated plant communities can be found, such as hanging gardens, tinajas, and rock crevice, canyon bottom, and dunal pocket communities. Large expanses of various exposed geologic strata, each with unique physical and chemical characteristics, have resulted in a spectacular array of unusual and diverse soils, including desert pavement and biological soil crusts, which support a wide range of vegetative communities, such as relict plant communities that have existed since the Pleistocene, and a multitude of endemic plants and pollinators. For example, lands within the Grand Staircase-Escalante landscape contain an astounding biodiversity of bees due, in large part, to the substantial elevational gradient, diversity of habitats, and abundance of flowering plants. The area is home to hundreds of bee species, including dozens of species that are believed to be unique to this landscape. Many of the species found in the Grand Staircase-Escalante region are highly localized, with small populations occurring in only a few locations or near certain flowering plants. Wildlife also flourishes; from mountain lion, bear, pronghorn, and desert bighorn sheep, to hundreds of species of birds, the landscape's location and the great variation in its elevation and topography have created a unique environment where suitable habitat exists for species associated with multiple eco-regions.

The Grand Staircase-Escalante's large, isolated, and, at times, impenetrable landscape is one of the most naturally dark outdoor spaces left in America, providing views of the cosmos that are nearly unrivaled in the contiguous United States, and an opportunity for visitors to encounter a landscape at night, undisturbed by electric lights, in the same way people have experienced the West for most of America's history. According to recent research, over 90 percent of the landscape, or nearly 1.7 million acres, contains pristine night skies, meaning that observers would see no indication of artificial skyglow anywhere in the night sky. Only natural sources of light are visible to the human eye, such as starlight, airglow, aurora, and zodiacal light. Comparatively, less than one third of the land area of the United States regularly experiences this degree of natural darkness, and most of that land is located in Alaska. The Grand Staircase-Escalante area also provides a remarkable natural soundscape with infrequent human-caused sounds. From popular recreational destinations to remote, isolated locations, acoustic baseline research has found that some of the quietest conditions found in protected areas across the United States can be found in the Grand Staircase-Escalante landscape.

The Grand Staircase-Escalante landscape is akin to a nesting doll of objects of historic and scientific interest. The landscape as a whole is an important object that provides context for each of its constituent parts. Within the whole are distinct and unique areas, which are themselves objects qualifying for protection. In turn, each of those areas contain innumerable individual fossils, archaeological sites, rare species, and other objects that are independently of historic or scientific interest and require protection under the Antiquities Act.

Located in the northeast corner of the Grand Staircase-Escalante landscape adjacent to Capitol Reef National Park is the Circle Cliffs area, which is dominated by a northwest-trending sandstone anticline and dramatic red sandstone cliffs. The area also encompasses several sky islands, including Studhorse Peaks, Colt Mesa, and Deer Point, the latter of which provides exquisite views of Waterpocket Fold—a stunning fold in the area's geologic layers that is the central feature of Capitol Reef National Park. The ecologically intact region provides important winter habitat for elk and contains a significant number of cultural sites used by Ancestral Pueblos and the Fremont. Specimens of petrified wood can be found across the Circle Cliffs area, including in the well-known Wolverine Petrified Wood Area, which includes some largely intact logs nearly 100 feet in length. Additionally, the Circle Cliffs landscape is rich in paleontological resources. The area, with geology dating back to the Triassic and Permian Periods, contains at least 45 known paleontological sites, including one in which a nearly complete articulated skeleton of Poposaurus—a rare bipedal crocodilian from the Late Triassic Period—was found. The Circle Cliffs landscape also contains portions of the Burr Trail, a route originally blazed by stockman John Atlantic Burr that is now a Utah Scenic Backway offering remarkable views of the Waterpocket Fold, the Henry Mountains, and the Boulder Mountain area of the Aquarius Plateau.

West of the Circle Cliffs and bisected by the Escalante River is the awe-inspiring Upper Escalante Canyons landscape. In this region, vivid geological features are laid bare in narrow, serpentine canyons, where erosion has exposed rolling expanses of petrified dunes and rock striations in shades of red, salmon, white, buff, and rust. The area's resources are almost too numerous to name. There are natural bridges and arches, such as Maverick Natural Bridge and Phipps Arch, the 130-foot tall Escalante Natural Bridge, and Bowington Arch; a large and unusual circular erosional sandstone formation that has sparked the public's imagination, as evidenced by its many names, including the Cosmic Navel; and several world-class slot canyons that draw adventurers from the world over, such as the Dry Fork of Coyote Gulch, Brimstone Canyon, Peek-a-boo Canyon, Spooky Gulch, Zebra and Tunnel Slot Canyons, and the Egypt Slots. The Escalante Canyons landscape also contains a high density of Fremont prehistoric sites, such as pithouses, villages, and storage cysts. The area's many canyons contain a world-class density and variety of Fremont, Ancestral Pueblo, and Southern Paiute rock writings, including a panel that is particularly meaningful to Tribal Nations with ancestral and historical ties to the area and another panel containing polychromatic depictions of long, linear figures that may date back to the Archaic period. The Escalante Canyons landscape also contains many inscriptions left by early settlers of European descent and significant historic sites telling tales of the region's more recent past, such as the Boulder Mail Trail, which was used to ferry mail between the small desert outpost towns of Escalante and Boulder beginning in 1902. The Boulder Mail Trail intersects incredibly scenic canyons that empty into the Escalante River. The narrow sandstone walls of Sand Creek shade a perennial stream that meanders through cool pools and supports riparian habitat and hanging gardens. Perennial flows are also found in Death Hollow, a stunning canyon chiseled into yellow and white Navajo Sandstone that is narrow and extraordinarily deep in its upper reaches before transitioning near the Boulder Mail Trail into a wider canyon dotted with ponderosa pine and riparian habitat. As a result of the abundance of water in tributaries of the Escalante River, as well as various seeps and springs, the Escalante Canyons area is dotted with hanging gardens, tinajas, and riparian vegetation that provide oases of sorts in an otherwise arid environment. The area is distilled to its essence in Calf Creek Canyon, the home of towering Navajo Sandstone cliffs, lush vegetation, cultural sites, and a perennial stream with two waterfalls: a slender 88-foot plunge in the upper part of the canyon, and a 126-foot cascade farther downstream that is one of the more elegant waterfalls in the entire Southwest. The upper part of the watershed is strewn with black basalt boulders and expanses of iron concretion sheets.

To the southeast of the Upper Escalante Canyons, adjacent to Capitol Reef National Park and Glen Canyon National Recreation Area, is a region with a rich pioneer history that functions as a gateway to the many slot canyons and arches near the Escalante River. Traversing the area is the historically significant Hole-in-the-Rock Road, which generally follows the route that Latter-day Saint pioneers constructed between 1879 and 1880 when crossing southern Utah to establish a wagon route between Escalante and southeast Utah settlements. Today, the road provides access to many of the landscape's resources, including Devil's Garden, an area with hoodoos, colorful rock formations, and unique sandstone arches like the impressively delicate Metate Arch; the small but attractive Little Jumbo Arch; the widely photographed Sunrise and Sunset arches; and Chimney Rock, a remote, lonely sandstone pillar that seems to defy its otherwise flat surroundings. This area is also the location of Dance Hall Rock, an important landmark where Latter-day Saint pioneers camped and held meetings and dances when constructing the Hole-in-the-Rock Trail. These uncompromising desert lands are home to high concentrations of rare species of bees with fascinating adaptations to their local environment, such as Diadasia bees, which build nests in the hard desert soil that feature a clay chimney on top, an architectural design that has, thus far, stumped scientists trying to understand its utility. Consisting of rock primarily from the Jurassic Period, there are many paleontological sites in this region. Among those, the sprawling Twentymile Wash Dinosaur Megatrackway consists of more than several hundred individual dinosaur tracks and what some scientists believe is a rare, mid-line tail-drag impression left in the Escalante Member of the Entrada Formation by a sauropod, or long-necked dinosaur.

At the center of the Grand Staircase-Escalante landscape is the Kaiparowits Plateau, containing roughly 1,600 square miles of sedimentary rock that towers over the surrounding area. The plateau is bordered on the east side by the Straight Cliffs, which stretch from near the beginning of the Escalante River to Fiftymile Mountain, and on the west by the East Kaibab Monocline, better known as the Cockscomb. The area is made up of steep-walled canyons, escarpments, towers, arches, and a series of benches that ascend from the southern border of the Grand Staircase-Escalante landscape. The Cockscomb is formed by parallel ridges with an intersecting steep v-shaped trough, and flatirons, small monoliths, and other colorful formations along the western ridge. The plateau has evidence of thousands of years of human habitation with sites attributed to many prehistoric cultures in southern Utah. Bighorn sheep and pronghorn have historically roamed the Kaiparowits Plateau—as evidenced by the area's petroglyph and pictograph panels—and reproducing populations have been reintroduced in recent years. The area is also home to a small population of chuckwalla and a population of desert night lizard, a species rarely seen in Utah.

The stratified geology of the Kaiparowits Plateau exposes fossils and other indicia of hundreds of millions of years of our planet's history, the only evidence in our hemisphere of mammals from the Cenomanian through Santonian ages and one of the world's best and most continuous records of Late Cretaceous terrestrial life. To date, many thousands of fossil sites have been documented on the plateau, including evidence of at least 15 previously unknown species of dinosaur. Fossils are preserved in stunning detail rarely seen in North America, including traces of soft tissue and the impressions of skin, beaks, and claws. The plateau contains a diverse assemblage of Campanian fauna, including a remarkable record of vertebrate species that include many new taxa and new temporal and geographic occurrences, thereby making the Kaiparowits Plateau an important scientific resource providing insight to the Late Cretaceous biosphere.

The Kaiparowits Plateau comprises multiple geological formations. The Kaiparowits and Wahweap Formations contain diverse and unique fossil evidence of ancient fauna and flora, including pterosaurs, frogs, salamanders, and snakes, that are fundamentally different from discoveries in other parts of North America. The Kaiparowits Formation has produced many ancient vertebrate taxa that are entirely new to science, including a vast array of horned dinosaurs, such as the Nasutoceratops, Kosmoceratops, and Utahceratops, a new species of Gryposaurus possessing a more robust skull, a new raptor, and the tyrannosaurid Teratophoneus. It has also produced evidence of a potentially new crested duck-billed dinosaur and incredibly diverse vegetative communities with previously undescribed fossil trees and aquatic plants. In 2018, researchers recovered the Akainacephalus, which is the most complete ankylosaur ever recovered in the southwestern United States. Exploration of the Wahweap Formation, while still in early stages, has led to striking Mesozoic Era discoveries, including the horned dinosaur Diabloceratops and the tyrannosaurid Lythronax. Similarly, the Dakota Formation contains some of the earliest evidence of mammals in the fossil record, and the Tropic Shale Formation includes important marine reptiles such as five species of plesiosaur and North America's oldest mosasaur. There are at least two mass mortality sites on the Kaiparowits Plateau, including the Rainbows and Unicorns site, which preserves the relatively complete remains of at least four tyrannosaurs ranging in age from juvenile to large adult, indicating that tyrannosaurs may have been social hunters and engaged in extended parental care, and Uncle Charley's Bonebed, which produced the fossilized remains of extinct tortoises, many of which had soft tissue preservation of skin and claws, and one of which even had a clutch of eggs preserved in its carapace. In addition, petrified wood from the Late Jurassic and Late Cretaceous Periods is found in the Morrison, Wahweap, and Kaiparowits Formations. The plateau also has an expansive exposure of a unique deposit of fossil oyster beds up to six feet thick from the Cretaceous Period, along with other marine mollusk shells.

The eastern portion of the Kaiparowits Plateau is dominated by Fiftymile Mountain and Fiftymile Bench. The upper elevations of these bench lands contain rich and varied ecosystems that include pinyon and juniper woodlands, ponderosa pine forests, and aspen groves. The area is dissected by a labyrinth of picturesque canyons, many of which contain important riparian ecosystems. The Fiftymile Mountain area has a high density of archaeological sites, including masonry structures, which have architectural styles suggesting that the Virgin Branch and Kayenta Branch of Ancestral Pueblos and the Fremont culture converged in the area. There are also sites considered sacred to several Tribal Nations with historical or ancestral ties to the Grand Staircase-Escalante region. This area further contains evidence of early pioneers who tried to scratch out a life on the sparse landscape, including historic cabins, fences, and stock trails. The sagebrush steppe ecosystem of Fiftymile Bench provides views of Window Wind Arch and striking vistas of the skyscraper-like escarpment that is the eastern face of the Straight Cliffs. The Straight Cliffs Formation, which is particularly exposed in this part of southern Utah, is rich with fossil resources containing evidence of primitive mammals, as well as straight cone cephalopods, ammonites, gastropods, pelecypods, and Cretaceous shark teeth. The Straight Cliffs also contain many clusters of balanced or pedestal rocks, known as hoodoos. Sooner Rocks, at the base of the Straight Cliffs, provides outstanding examples of the geologic feature known as “mega-potholes” that are more often found in some of the sandstone formations in and around Glen Canyon.

Grand Bench lies on the southeastern border of the Kaiparowits Plateau between the Burning Hills to the west and Fiftymile Mountain to the east. The sparse road network in Grand Bench makes it one of the most remote locations in the Grand Staircase-Escalante, with largely unspoiled and unimpeded views of the night sky. The Grand Bench area is also home to the mostly freestanding Woolsey Arch, as well as many recorded paleontology sites found in its Cretaceous and Jurassic Period rocks, including petrified wood and important fossils.

The Smoky Mountain area just west of Grand Bench on the Kaiparowits Plateau provides a striking scene. The steep and rugged hilltops of the Burning Hills have been scorched red by naturally occurring underground coal fires that have been smoldering for hundreds, if not thousands, of years. Similarly, Smoky Mountain is dotted with natural chimneys that release hot smoke and sulfuric gasses from the coal fires below. Despite the hostile environment, this area is home to a number of rare and endemic plant species, including Atwood evening primrose and Smoky Mountain globemallow, as well as a thriving herd of desert bighorn sheep and nesting areas for a high density of raptors.

The lower benches of the Kaiparowits Plateau, including John Henry Bench, Tibbet Bench, Nipple Bench, and Jack Riggs Bench, lie to the west of Smoky Mountain and provide important habitat for big game, including desert bighorn sheep and pronghorn, and sweeping views to the south. The Cretaceous Wahweap Formation runs through the area and has been the site of many important fossil finds, including turtle shells, dinosaurs, and crocodile teeth. Just west of Nipple Bench are the Wahweap Hoodoos, ghostly white formations with brown capstones that can appear to float in the right conditions.

Alvey Wash is situated in the northern part of the Kaiparowits Plateau, close to the Straight Cliffs, and north of Death Ridge. In addition to providing access to the interior of the Kaiparowits Plateau, the Alvey Wash area contains geologic objects of historic and scientific interest, including various arches and portions of the Smoky Mountain Road State Scenic Backway, a remote, unpaved route that offers unparalleled views of Lake Powell and the Kaiparowits Plateau. The region's fossil-rich Cretaceous rocks contain more than a hundred known recorded paleontological sites. Alvey Wash, which likely acted as an important travel route between the Escalante River and the top of the Kaiparowits Plateau, also contains several important Fremont and Ancestral Pueblo sites, including rock writings, rock shelters, cliffside storage structures, and pithouses.

In the northern part of the landscape, east of the towns of Tropic and Cannonville, are the Blues, an area named for the blue-grey sandstone that provides a striking contrast against the forested uplands and the pink and white cliffs of Powell Point towering in the background. The velvety gray slopes of these shale badlands include exposures of the Kaiparowits Formation that are unique on the Colorado Plateau. Representing rapid accumulation of sediment during the Late Cretaceous Period, the stratigraphy has facilitated the discovery of a diversity of fossils, including early mammals, lizards, dinosaurs, crocodilians, turtles, mollusks, and some fossils found nowhere else on Earth, including one of the largest oviraptors ever discovered. This area may also provide habitat for many raptor species, including Swainson's hawks, golden eagles, and peregrine falcons.

South of the Blues, the Butler Valley area provides jaw-dropping views of multi-colored sandstone cliffs to the north and contains important microvertebrate fossil localities in the Smoky Hollow Member of the Straight Cliffs Formation found near the upper reaches of Wiggler Wash. Also nearby is Grosvenor Arch, a rare double arch with sandstone buttresses that soars 150 feet in the air, as well as the tight canyons of Butler Valley and Round Valley Draw.

To the west of the Cockscomb lies the Hackberry Canyon area, with a deep gorge containing towering Wingate Sandstone cliffs and impressive narrows, and Yellow Rock, a smooth-sided dome that obtains its unique appearance from evaporated pools of water and the presence of limonite in its swirling Navajo Sandstone. With limited vegetation, Yellow Rock provides a commanding view of Hackberry Canyon to the north, the Paria River to the west, and the Cockscomb to the east. The area's high scenic quality is further enhanced by a number of towering arches, including Sam Pollock Arch, which spans 70 feet in a tributary of Hackberry Canyon. The Hackberry Canyon area contains Virgin Branch of Ancestral Pueblo sites, such as rock shelters, pithouses, lithic scatters, and masonry structures, as well as rock writings that can be found in side canyons. Hackberry Canyon also contains evidence of later Anglo habitation, including Watson Cabin, a one-room log cabin with a fieldstone chimney that was built in the early 1890s and is one of the few standing pioneer structures in the region.

To the west of the Kaiparowits Plateau, the Upper Paria River complex is a highly scenic and colorful maze of canyons, arches, and “hydrothermal-collapse” pipes and dikes that expose the multihued Carmel and Entrada Formations. The area is home to many perennial streams, the Paria River, and hundreds of acres of riparian vegetation, all of which support a particularly rich diversity of terrestrial vertebrate and avian species. Flowing continuously for most of the year thanks to water from the higher elevations in the north and west, the area's perennial streams have left the area dissected with canyons that eventually drain into the Paria River. As the flow increases, the Paria River cuts its way through a series of benches and cliffs that form a portion of the Grand Staircase as it meanders towards its confluence with the Colorado River near Lee's Ferry. For example, there is the spring-fed Willis Creek, which flows year-round through a moderately deep gorge that contains several sections of elegant narrows. Other nearby canyons, although dry most of the year, are subject to extreme erosional events from passing storms, such as Lick Wash, a deep canyon enclosed by horizontally striated white sandstone walls that are hundreds of feet high, and Bull Valley Gorge, an impressively deep and narrow canyon cut through Navajo Sandstone containing a variety of rock formations and colors. The Upper Paria River complex contains paleontological sites found in strata from the Jurassic and Cretaceous Periods. The Paria River corridor is also the site of the Paria ghost town, the only historic townsite in the monument. First settled by Latter-day Saint pioneers in 1865 as a farming community, the town was largely abandoned after a series of floods in the late 1800s, save for a post office, which served the area for many years.

After the Paria River crosses the Cockscomb and enters Cottonwood Canyon, it feeds a rich riparian area that provides important habitat for the endangered southwestern willow flycatcher. Cottonwood Canyon and the nearby Rimrocks area are home to a number of rare plants, such as the Tropic goldeneye and Atwood's pretty phacelia. This area, down to West Clark Bench, is also characterized by high ecological system diversity and is home to a number of rare bee species as well as a number of hot desert endemic species of bees in the northernmost known extent of their range. The Rimrocks area is home to striking geological formations known as the Toadstool Hoodoos, fascinating features composed of Dakota Sandstone boulders perched precariously atop softer and eroded Entrada Sandstone, and a narrow slot canyon that contains rock writings. Further east, other geological formations include the White Rocks, and to the south, the area around the East and West Clark Benches forms a barren and austere landscape that exposes Jurassic and Cretaceous Period rocks rich in paleontological resources.

On the west side of the landscape is the Grand Staircase, a series of intensely colorful cliffs and plateaus that connect Bryce Canyon to the Grand Canyon. The Grey Cliffs are composed of soft Cretaceous shale and sandstone in subdued shades of gray, brown, and yellow that were deposited approximately 130 million years ago. The White Cliffs are high white or yellow cliffs of Navajo Sandstone that consistently reach heights of more than 1,000 feet. The area is home to rare and endemic bee species, particularly near Timber Mountain. The area also contains a number of relict plant communities on the sky islands of No Man's Mesa and Little No Man's Mesa, whose steep walls have guarded such communities for thousands of years, providing a living window into the past. Further south, the eponymous Vermilion Cliffs, once the shoreline for the ancient Lake Dixie, contain fossilized fish, dinosaurs, and early reptiles, as well as multiple tracksites. The Flag Point tracksite provides an enduring testament to humans' fascination with the traces of epochs past. The site contains a series of theropod tracks leading right to the cliff edge and, nearby, pictographs of the tracks that were likely left by ancient indigenous peoples living in nearby communities. The Grand Staircase area is also replete with evidence of thousands of years of human habitation. Pre-historic projectile points and hunter-gatherer residential pit structures are found in the higher elevations, whereas evidence of some of the earliest corn-related agriculture in the Southwest, developed by the Virgin Branch of Ancestral Pueblos, as well as evidence of the Southern Paiute people, who identify this area as part of their ancestral homeland, are found in the lower elevations. This area also contains a number of other unusual and important resources, including a high density of petrified wood and rare and endemic plant species, such as the Higgins spring parsley and Kane breadroot.

The Buckskin Mountain area, located southeast of the Vermilion Cliffs and west of the Cockscomb, is a unique lithological area, rich in rocks from the Triassic Period and late Paleozoic Era. It also provides winter range for the renowned Paunsaugunt mule deer herd and is the location of the Eagle Sink, a stunning sinkhole where the surrounding limestone collapsed to create an enormous 160-foot depression. The area also contains many Ancestral Pueblo cultural sites and provides access to the primary trailheads used to access Buckskin Gulch—the longest slot canyon in the United States, with walls ascending up to 400 feet—located in the adjacent Paria Canyon-Vermilion Cliffs Wilderness.

Protection of the Grand Staircase-Escalante National Monument will preserve its cultural, prehistoric, and historic legacy and maintain its diverse array of natural and scientific resources, ensuring that the prehistoric, historic, and scientific values of this area remain for the benefit of all Americans. Reservation of these lands will preserve the living laboratory within the monument boundaries that will facilitate significant scientific discoveries for years to come. The area contains numerous objects of historic and scientific interest, and it provides world-class outdoor recreation opportunities, including rock climbing, hunting, hiking, backpacking, canyoneering, river running, mountain biking, and horseback riding, that support a travel and tourism sector that is a source of economic opportunity for the region.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, Proclamation 6920 of September 18, 1996, designated the Grand Staircase-Escalante National Monument in the State of Utah and reserved approximately 1.7 million acres of Federal lands as the smallest area compatible with the proper care and management of objects of historic and scientific interest; and

WHEREAS, on three separate occasions the Congress adjusted the boundaries of the monument—the Utah Schools and Lands Exchange Act of 1998, Public Law 105-335, 112 Stat. 3139; title II of Public Law 105-355, 112 Stat. 3247, 3252 (1998); and section 2604 of the Omnibus Public Land Management Act of 2009, Public Law 111-11, 123 Stat. 991, 1120—ultimately increasing the Federal lands reserved for the monument by more than 180,000 acres.

WHEREAS, Proclamation 9682 of December 4, 2017, modifies the management direction of the Grand Staircase-Escalante National Monument and excludes nearly half of the lands reserved in Proclamation 6920, which include lands containing objects of historic and scientific interest that Proclamation 6920 identifies as needing protection, such as portions of Circle Cliffs and Waterpocket Fold; and

WHEREAS, December 4, 2017, was the first time that a President asserted that the Antiquities Act included the authority to reduce the boundaries of a national monument or remove objects from protection under the Antiquities Act since the 1976 passage of the Federal Land Policy and Management Act, as amended (43 U.S.C. 1701 et seq.); and

WHEREAS, I find that each of the historic and scientific resources identified above and in Proclamation 6920 are objects of historic or scientific interest in need of protection under 54 U.S.C. 320301; and

WHEREAS, I find that the unique nature of the Grand Staircase-Escalante landscape, and the collection of objects and resources therein, make the entire landscape within the boundaries reserved by this proclamation an object of historic and scientific interest in need of protection under 54 U.S.C. 320301; and

WHEREAS, I find that there are threats to the objects identified in this proclamation and Proclamation 6920; and

WHEREAS, I find, in the absence of a reservation under the Antiquities Act, the objects identified in this proclamation and in Proclamation 6920 are not adequately protected by otherwise applicable law or administrative designations because neither provide the Department of the Interior with the specific mandate to ensure proper care and management of the objects, nor do they withdraw the lands from the operation of the public land, mining, and mineral leasing laws, and so a national monument reservation is necessary to protect the objects of historic and scientific interest in the Grand Staircase-Escalante region for current and future generations; and

WHEREAS, I find that the boundaries of the monument reserved by this proclamation represent the smallest area compatible with the protection of the objects of historic or scientific interest as required by the Antiquities Act; and

WHEREAS, it is in the public interest to ensure the preservation, restoration, and protection of the objects of historic or scientific interest on the Grand Staircase-Escalante lands, including the entire monument landscape, reserved within the boundaries established by this proclamation;

NOW, THEREFORE, I, JOSEPH R. BIDEN JR., President of the United States of America, by the authority vested in me by section 320301 of title 54, United States Code, hereby proclaim the objects identified above and in Proclamation 6920 that are situated upon lands and interests in lands owned or controlled by the Federal Government to be the Grand Staircase-Escalante National Monument (monument) and, for the purpose of protecting those objects, reserve as part thereof all lands and interests in lands not currently reserved as part of a monument reservation and that are owned or controlled by the Federal Government within the boundaries described on the accompanying map, which is attached to and forms a part of this proclamation. These reserved Federal lands and interests in lands consist of those lands reserved as part of the Grand Staircase-Escalante National Monument as of December 3, 2017, encompassing approximately 1.87 million acres. As a result of the distribution of the objects across the Grand Staircase-Escalante landscape, and additionally and independently, because the landscape itself is an object in need of protection, the boundaries described on the accompanying map are confined to the smallest area compatible with the proper care and management of the objects of historic or scientific interest identified above and in Proclamation 6920.

All Federal lands and interests in lands within the boundaries of the monument are hereby appropriated and withdrawn from all forms of entry, location, selection, sale, or other disposition under the public land laws, from location, entry, and patent under the mining laws, and from disposition under all laws relating to mineral and geothermal leasing, other than by exchange that furthers the protective purposes of the monument.

This proclamation is subject to valid existing rights. If the Federal Government subsequently acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the monument through the Bureau of Land Management (BLM), as a unit of the National Landscape Conservation System, and in accordance with the terms, conditions, and management direction provided by this proclamation and, unless otherwise specifically provided herein, those provided by Proclamation 6920, the latter of which are incorporated herein by reference. To the extent any provision of Proclamation 9682 is inconsistent with Proclamation 6920 or this proclamation, the terms of this proclamation and Proclamation 6920 shall govern. To further the orderly management of monument lands, the monument will be managed as a single unit comprising the entire 1.87 million-acre Grand Staircase-Escalante National Monument.

For purposes of protecting and restoring the objects identified above and in Proclamation 6920, the Secretary shall prepare and maintain a new management plan for the entire monument. The Secretary, through the BLM, shall consult with other Federal land management agencies or agency components in the local area, including the National Park Service, in developing the management plan. The Secretary shall provide for maximum public involvement in the development of that plan, including consultation with federally recognized Tribal Nations and State and local governments. In the development and implementation of the management plan, the Secretary shall maximize opportunities, pursuant to applicable legal authorities, for shared resources, operational efficiency, and cooperation.

The Secretary, through the BLM, shall maintain an advisory committee under the Federal Advisory Committee Act (5 U.S.C. App.) with the specific purpose of providing information and advice regarding the development of the management plan and, as appropriate, management of the monument, including scientific research that occurs therein. This advisory committee shall consist of a fair and balanced representation of interested stakeholders, including State and local governments, Tribal Nations, recreational users, conservation organizations, educators, local business owners, private landowners, and the scientific community, which may include members with expertise in archaeology, paleontology, entomology, geology, botany, wildlife biology, social science, or systems ecology.

Nothing in this proclamation shall be deemed to enlarge or diminish the rights or jurisdiction of any Tribal Nation. The Secretary shall, to the maximum extent permitted by law and in consultation with Tribal Nations, ensure the protection of sacred sites and cultural properties and sites in the monument and provide access to Tribal members for traditional cultural, spiritual, and customary uses, consistent with the American Indian Religious Freedom Act (42 U.S.C. 1996) and Executive Order 13007 of May 24, 1996 (Indian Sacred Sites), including collection of medicines, berries and other vegetation, forest products, and firewood for personal noncommercial use in a manner consistent with the care and management of the objects identified above and in Proclamation 6920.

The Secretary shall manage livestock grazing as authorized under existing permits or leases, and subject to appropriate terms and conditions in accordance with existing laws and regulations, consistent with the care and management of the objects identified above and in Proclamation 6920. Should grazing permits or leases be voluntarily relinquished by existing holders, the Secretary shall retire from livestock grazing the lands covered by such permits or leases pursuant to the processes of applicable law. Forage shall not be reallocated for livestock grazing purposes unless the Secretary specifically finds that such reallocation will advance the purposes of this proclamation and Proclamation 6920.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this eighth day of October, in the year of our Lord two thousand twenty-one, and of the Independence of the United States of America the two hundred and forty-sixth.

Billing code 3395-F2-P

[FR Doc. 2021-22673

Filed 10-14-21; 8:45 am]

Billing code 4310-10-C